DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by March 20, 2023. Written comments and recommendations for the proposed information collection should be submitted, identified by docket number 0535-0264, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336, South Building, 1400 Independence Avenue SW, Washington, DC 20250-2024.

• Hand Delivery/Courier: Hand deliver to: Richard Hopper, NASS Clearance Officer, U.S. Department of Agriculture, Room 5336, South Building, 1400 Independence Avenue SW, Washington, DC 20250-2024.

An agency may not conduct or sponsor a collection of information unless the collection of information displays a currently valid OMB control number and the agency informs potential persons who are to respond to the collection of information that such persons are not required to respond to the collection of information unless it displays a currently valid OMB control number.

National Agricultural Statistics Service (NASS)

Title: North Carolina Labor Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of operations in North Carolina. Selected operators in North Carolina will be asked to provide data on agricultural labor hiring practices.

General authority for these data collection activities is granted under U.S.C. Title 7, Section 2204. This survey will be conducted on a full cost recovery basis with the North Carolina Department of Agriculture and Consumer Services (NCDACS) providing funding under a cooperative agreement.

Need and Use of the Information: The survey results will also be used by the North Carolina Department of Agriculture and Consumer Services to determine a list of best hiring, training labor practices, and additional guidelines for North Carolina agricultural producers. The survey results are expected to create programs for youth involved in the agriculture labor force, improve wages for farmworker families and to improve commodity prices for growers. The survey results will also be used by the North Carolina Department of Agriculture and Consumer Services in policy reviews for labor regulations and contract requirements of commodity purchases.

North Carolina Department of Agriculture and Consumer Services believes the survey is necessary to advance the understanding of agricultural labor sources in North Carolina. Currently, there are limited amounts of data regarding North Carolina's agricultural labor force and the survey would go a long way to fill that gap by providing additional data.

Description of Respondents: Agricultural operations in North Carolina who hire agricultural labor.

Number of Respondents: 3,200.

Frequency of Responses: Reporting: One a year.

Total Burden Hours: 1,286.

Ruth Brown,
Departmental Information Collection Clearance Officer.

[FR Doc. 2023-03380 Filed 2-16-23; 8:45 am]

BILLING CODE 3410-20-P